DEPARTMENT OF TRANSPORTATION

Federal Railroad Administration

Environmental Impact Statement for the Washington Union Station Expansion Project

AGENCY: Federal Railroad Administration (FRA), Department of Transportation (DOT).

ACTION: Notice of intent to prepare an Environmental Impact Statement (EIS).

SUMMARY: FRA is issuing this notice to advise the public that FRA will prepare an Environmental Impact Statement (EIS) to evaluate the potential impacts to the human and natural environment of the Washington Union Station Expansion Project (Project) proposed by the Union Station Redevelopment Corporation (USRC) in coordination with the National Railroad Passenger Corporation (Amtrak). The Project includes expanding and modernizing the multimodal transportation facilities at Washington Union Station, while preserving the historically significant station building. FRA is preparing this EIS in accordance with the National Environmental Policy Act (NEPA). FRA will evaluate reasonable alternatives for the proposed Project, including a No Action (No Build) Alternative. FRA is issuing this notice to solicit public and agency input into the scope of the EIS and to advise the public that outreach activities conducted by FRA, USRC, and its representatives will be considered in the preparation of the EIS. To ensure all significant issues are identified and considered, the public is invited to comment on the scope of the EIS, including the purpose and need, alternatives to be considered, impacts to be evaluated, and methodologies to be used in the evaluation.

DATES: FRA invites the public, governmental agencies, and all other interested parties to comment on the scope of the EIS. All such comments should be provided to FRA, via mail or email, by January 4, 2016, to the addresses listed below. Comments may also be provided orally or in writing at the public scoping meeting for the Project, scheduled for December 7, 2015 in the Presidential Room at Union Station located at 50 Massachusetts Avenue NE., Washington, DC 20002. The meeting will be an open-house format for discussions with the project team from 4:00 to 8:00 p.m. with two brief identical presentations; one at 4:30 p.m. and the second at 7:00 p.m. to provide a thorough project description. Information on the project and the scoping meeting is available on the FRA Web site at www.fra.dot.gov.

ADDRESSES: Written comments on the scope of the EIS may be mailed or emailed by January 4, 2016 to Michelle Fishburne, Office of Railroad Policy and Development, Federal Railroad Administration, 1200 New Jersey Avenue SE., Washington, DC 20590, or Michelle.Fishburne@dot.gov. The December 7, 2015 Public Scoping Meeting will be held in the Presidential Room at Union Station located at 50 Massachusetts Avenue NE., Washington, DC 20002.

FOR FURTHER INFORMATION CONTACT: Michelle Fishburne, Office of Railroad Policy and Development, Federal Railroad Administration, 1200 New Jersey Avenue SE., Washington, DC 20590, Michelle.Fishburne@dot.gov. Information and documents regarding the EIS process will also be made available through the FRA Web site at www.fra.dot.gov.

SUPPLEMENTARY INFORMATION: The Washington Union Station Expansion Project would expand and modernize Washington Union Station. The Project includes reconstructing and relocating tracks, developing new concourse facilities, maintaining multi-modal transportation services, and improving and expanding infrastructure and other supporting facilities. The EIS will evaluate the potential environmental impacts of an expanded multi-modal transportation facility at Union Station.

Environmental Review Process

FRA as the lead federal agency will prepare the EIS in accordance with the National Environmental Policy Act (NEPA) (42 U.S.C. 4321 et seq.), the Council on Environmental Quality (CEQ) regulations implementing NEPA (40 CFR parts 1500-1508), and the Federal Railroad Administration (FRA) Procedures for Considering Environmental Impacts (64 FR 28545, May 26, 1999, and 78 FR 2713, Jan. 14, 2013). In addition to NEPA, the EIS will address other applicable statutes, regulations and executive orders, including the 1980 Clean Air Act Amendments, Section 404 of the Clean Water Act, the National Historic Preservation Act (NHPA), Section 4(f) of the Department of Transportation Act, the Endangered Species Act, and Executive Order 12898 on Environmental Justice.

Alternatives considered in the EIS may involve Columbus Circle and other properties adjacent to Washington Union Station. The EIS will provide the FRA, reviewing and cooperating agencies, and the public with information to evaluate the potential environmental impacts of Project alternatives, and to identify potential avoidance/mitigation measures as appropriate.

The Project may affect historic properties and will be subject to the requirements of Section 106 of the NHPA (54 U.S.C. 306108). In accordance with regulations issued by the Advisory Council on Historic Preservation (36 CFR part 800), FRA may coordinate compliance with Section 106 of the NHPA with the preparation of the EIS, beginning with the identification of consulting parties through the scoping process, in a manner consistent with the standards set out in 36 CFR 800.8.

Project Background

In 2012, Amtrak prepared a Union Station Master Plan in coordination with USRC and other stakeholders, including regional transportation agencies and a real estate development company, Akridge, who owns development rights above the rail terminal. Akridge purchased the right to develop above the Amtrak property between Union Station and K Street NE from the U.S. General Services Administration in 2006. In June 2011, the Akridge property was rezoned “USN” by the DC Zoning Commission, which allows for a three million square foot-plus mixed use development, referred to as Burnham Place, to be constructed on a concrete deck over the Amtrak rail terminal. The 2012 Master Plan addressed future rail capacity needs, including additional tracks, a new train shed, and passenger concourses, and it provided a concept envisioning improved rail services at Washington Union Station in coordination with the Burnham Place development.

The Amtrak 2012 Master Plan is the starting point and framework for the 2nd Century Plan for Washington Union Station being planned by USRC and Amtrak, in partnership with Akridge (collectively referred to as the Partners). The Partner's 2nd Century Plan will serve to coordinate multiple near-term and long-term public and private projects at Washington Union Station as those projects are further developed and implemented.

USRC in coordination with Amtrak propose the Project to expand Washington Union Station, the main project within the 2nd Century Plan. The Project is anticipated to require federal funding and approval. The EIS for the Project will address the reconstruction and expansion of the rail terminal (track and platforms), construction of new concourses, changed and improved access, and associated improvements to modernize the multi-modal services and facilities of the station.

Purpose and Need

Union Station is the second busiest station on the Northeast Corridor with its capacity expected to double, while the volume of non-railroad pedestrians through the station is expected to increase threefold, by 2030. The station supports upwards of 100,000 rail and transit passenger trips daily utilizing intercity rail, commuter rail and Metro rail, commuter, local and tour buses, taxis, private cars, rental cars, limousine services, bicycles, foot traffic and, in the near future, streetcar. As a rail station, the facilities are inadequate for current and future operations and cannot provide the rail capacity needed to meet the future demands for Amtrak Acela, future High Speed Rail, commuter rail, Metrorail, and other rail services. The existing Station does not provide adequate or efficient capacity, access, and connections for different transportation modes, such as taxi and car services, Metrorail, intercity bus, or rental cars and parking facilities. In addition, Washington Union Station is not integrated with its surrounding neighbors and land uses. The station limits movement and flow among neighborhoods and between neighborhoods and destinations. As the demographic profile of station users and visitors changes and grows to include diverse local populations and new residents in addition to commuters and long distance travelers, the transportation infrastructure, amenities, and services at Washington Union Station need to be expanded to meet these multimodal demands.

The purpose of the Project is to expand and modernize Washington Union Station as the National Capitol Region's principal intermodal transportation hub in order to provide a positive customer experience; support current and future rail service and operational needs; facilitate intermodal travel; sustain its economic viability and continued preservation; and enhance integration with the adjacent businesses, neighborhoods, and future development. Specific elements of this broad purpose include: Increasing station capacity to accommodate growth in passenger traffic and railroad operations; achieving compliance with the 2006 U.S. Department of Transportation Americans with Disabilities Act of 1990 (ADA) Standards for Transportation Facilities providing connectivity among transportation modes; providing access to and among surrounding neighborhoods; and maintaining financial self-sufficiency of station maintenance and operations. The Project will protect and preserve the main historic station building, consistent with USRC's 2015 Historic Preservation Plan.

Scoping and Public Involvement

FRA encourages broad participation in the EIS process during scoping and review of the resulting environmental documents. Comments are invited from all interested agencies and the public to ensure the full range of issues related to the Project are addressed, reasonable alternatives are considered, and significant issues are identified. In particular, FRA is interested in identifying areas of environmental concern where there might be a potential for significant impacts.

Public agencies with jurisdiction are requested to advise FRA of the applicable permit and environmental review requirements of each agency, and the scope and content of the environmental information that is germane to the agency's statutory responsibilities in connection with the proposed Project. Public agencies are requested to advise FRA if they anticipate taking a major action in connection with the proposed Project and if they wish to cooperate in the preparation of the EIS in accordance with 40 CFR 1501.16.

The public scoping meeting described above is an important component of the scoping process for Federal environmental review. FRA seeks participation and input of interested Federal, State, and local agencies, Native American groups, and other concerned private organizations and individuals on the scope of the EIS. Opportunities for public participation in the EIS process will be announced through mailings, notices, advertisements, press releases, and the FRA Web site at www.fra.dot.gov.

Comments or questions concerning the Proposed Project and the scope of the EIS are invited from all interested parties and should be directed to the FRA at the address provided above.

Issued in Washington, DC, on October 30, 2015.
David Valenstein,
Division Chief, Environment and Corridor Planning.

[FR Doc. 2015-28079 Filed 11-3-15; 8:45 am]

BILLING CODE 4910-06-P